DEPARTMENT OF LABOR

Employment and Training Administration

Investigations Regarding Certifications Of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 16, 2009.

Interested persons are invited to submit written comments regarding the subject matter of the investigations to the Director, Division of Trade Adjustment Assistance, at the address shown below, not later than November 16, 2009.

The petitions filed in this case are available for inspection at the Division of Trade Adjustment Assistance, Employment and Training Administration, U.S. Department of Labor, Room N-5428, 200 Constitution Avenue, NW., Washington, DC 20210.

Signed at Washington, DC, this 26th day of October 2009.
Richard Church,
Certifying Officer, Division of Trade Adjustment Assistance.

Appendix
[TAA petitions instituted between 9/21/09 and 9/25/09]
TA-W | Subject firm (petitioners) | Location | Date of institution | Date of petition
72354 | Fair Isaac Corporation (FICO) (Wrks) | San Rafael, CA | 09/21/09 | 09/14/09
72355 | Flanders Tool Company (State) | Flanders, NJ | 09/21/09 | 09/21/09
72356 | Wolverine Broach Co., Inc. (Wrks) | Harrison, MI | 09/21/09 | 09/17/09
72357 | Home Interiors, Inc. (State) | Carrollton, TX | 09/21/09 | 07/26/09
72358 | Agrium (Comp) | Kenai, AK | 09/21/09 | 09/17/09
72359 | Nielsen Hardware Corporation (State) | Berlin, CT | 09/21/09 | 09/18/09
72360 | CDS Ensembles Inc. (Comp) | Greer, SC | 09/21/09 | 09/18/09
72361 | Nidec Sankyo America Corporation (Comp) | Shelbyville, IN | 09/21/09 | 09/18/09
72362 | P.M. Kelly, Inc. (Wkrs) | Ashland, ME | 09/21/09 | 09/18/09
72363 | David Rothschild Company, Inc. (Wkrs) | Reidsville, NC | 09/21/09 | 09/15/09
72364 | Chemcut Corporation (Comp) | State College, PA | 09/21/09 | 09/17/09
72365 | Axcelis Technologies Field Service Office-Micron Boise (Wrks) | Boise, ID | 09/22/09 | 09/17/09
72366 | Claude Sintz (Wrks) | Deshler, OH | 09/22/09 | 09/16/09
72367 | United Airlines (State) | Elk Grove Village, IL | 09/22/09 | 09/16/09
72368 | Micale Construction Services (Comp) | Kersey, PA | 09/22/09 | 09/17/09
72369 | Gentex Corporation (Wrks) | Carbondale, PA | 09/22/09 | 09/18/09
72370 | HMX Tailored (Union) | Buffalo, NY | 09/22/09 | 09/14/09
72371 | Gardau Ameristeel (State) | Perth Amboy, NJ | 09/22/09 | 09/21/09
72372 | Kaiser Permanente (Wkrs) | Corona, CA | 09/22/09 | 08/21/09
72373 | Plastic Dress Up Company (Wkrs) | S. El Monte, CA | 09/22/09 | 09/21/09
72374 | Higgins Embroidery, Inc. (Comp) | Lineville, VA | 09/22/09 | 09/21/09
72375 | Commercial Furniture Group (Union) | Morristown, TN | 09/22/09 | 09/21/09
72376 | Albany International (State) | Kaukawa, WI | 09/23/09 | 09/22/09
72377 | PRC/Match.com (Wrks) | Jacksonville, NC | 09/23/09 | 09/21/09
72378 | Dow Jones & Co Inc. (Wrks) | Monmouth Jct., NJ | 09/23/09 | 09/22/09
72379 | Premier Manufacturing Support Services (Comp) | Spring Hill, TN | 09/23/09 | 09/14/09
72380 | Huitt Mills, Inc. (Comp) | Hildbran, NC | 09/23/09 | 09/16/09
72381 | Grand Model Garment, Inc. (Wrks) | New York, NY | 09/23/09 | 09/21/09
72382 | SDI Media USA (State) | Culver City, CA | 09/23/09 | 09/22/09
72383 | Northwest Machining and Manufacturing (Wrks) | Meridian, ID | 09/23/09 | 08/31/09
72384 | Milacron (Wrks) | Mt. Orab, OH | 09/23/09 | 09/22/09
72385 | Greyhound Lines, Inc. (Comp) | Dallas, TX | 09/23/09 | 09/22/09
72386 | Brittany Sovereign-Duffy-Myer (Wrks) | Munchie, IN | 09/24/09 | 09/23/09
72387 | Sony Electronics, Inc. (Wrks) | Dothan, AL | 09/24/09 | 09/21/09
72388 | RR Donnelley Hillside (Wkrs) | Hillside, IL | 09/24/09 | 09/18/09
72389 | ACH Food Companies, Inc. Cheese Products (Wkrs) | Humbolt, TN | 09/24/09 | 09/22/09
72390 | Acme Electric (State) | Spring Grove, IL | 09/24/09 | 07/10/09
72391 | Ranal, Inc. (Wkrs) | Auburn Hills, MI | 09/24/09 | 09/20/09
72392 | Standard Motor Products (Comp) | Independence, KS | 09/24/09 | 09/22/09
72393 | Safety Components Fabric Technologies, Inc. (Wkrs) | Greenville, SC | 09/24/09 | 09/22/09
72394 | Mohawk Industries (State) | Waynesboro, VA | 09/24/09 | 09/23/09
72395 | 3M—Southbridge (Comp) | Southbridge, MA | 09/24/09 | 09/17/09
72396 | Universal Style Inc. (Comp) | North Bergen, NJ | 09/24/09 | 08/26/09
72397 | Timken Company (Wkrs) | Bucyrus, OH | 09/24/09 | 09/23/09
72398 | SAPA Extrusions, LLC (Wkrs) | Delhi, LA | 09/24/09 | 09/23/09
72399 | Intel Corporation, Fab 20 (Comp) | Hillsboro, OR | 09/24/09 | 09/23/09
72400 | CSAA (Wkrs) | Glendale, AZ | 09/24/09 | 09/15/09
72401 | Jastev Casework Company (Comp) | Columbia, TN | 09/24/09 | 09/17/09
72402 | Appleton Electric (Comp) | Columbus, NE | 09/25/09 | 09/21/09
72403 | Faradyne Motors, LLC (Comp) | Newark, NY | 09/25/09 | 09/24/09
72404 | Mazak Corporation (Comp) | Florence, KY | 09/25/09 | 09/16/09
72405 | Camdus Communications (Wkrs) | Columbus, OH | 09/25/09 | 09/24/09
72406 | Innovative Wood Products (Wkrs) | Taylorsville, NC | 09/25/09 | 09/16/09
72407 | Foam Rubber Products (Wkrs) | Monticello, IA | 09/25/09 | 08/31/09
72408 | Capmark Finance, Inc. (State) | Granville, OH | 09/25/09 | 09/24/09
72409 | Nuway Speake Products, Inc. (Wkrs) | Clinton, NC | 09/25/09 | 09/24/09
72410 | DSC Window Fashion (Comp) | Portland, OR | 09/25/09 | 09/23/09
72411 | Emerson Power Transmission (State) | Ithica, NY | 09/25/09 | 09/21/09
72412 | Graco Children's Products (Comp) | Macedonia, OH | 09/25/09 | 09/24/09
72413 | Classic Automotive, Inc. (Comp) | Cullman, AL | 09/25/09 | 09/24/09
72414 | Hanes Menswear Puerto Rico, Inc. (Comp) | Ponce, PR | 09/25/09 | 09/22/09
72415 | OhioAmerican Energy, Incorporated (Comp) | Brilliant, OH | 09/25/09 | 09/24/09
72416 | Gates Corporation (State) | Denver, CO | 09/25/09 | 09/24/09
72417 | Hewlett-Packard (Americas Software Manufacturing) (Wkrs) | Andover, MA | 09/25/09 | 09/23/09

[FR Doc. E9-26571 Filed 11-4-09; 8:45 am]

BILLING CODE 4510-FN-P